DEPARTMENT OF HEALTH AND HUMAN SERVICES

[Document Identifier OS-0990-new]

Agency Information Collection Request. 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before April 2, 2018.

ADDRESSES: Submit your comments to Sherrette.Funn@hhs.gov or by calling (202) 795-7714.

FOR FURTHER INFORMATION CONTACT: When submitting comments or requesting information, please include the document identifier 0990-New-60D and project title for reference, to Sherrette.funn@hhs.gov, or call the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Evaluation of the Assisted Outpatient Treatment Grant Program for Individuals with Serious Mental Illness.

Type of Collection: New.

Abstract: The Office of the Assistant Secretary for Planning and Evaluation (ASPE) at the U.S. Department of Health and Human Services (HHS) is requesting Office of Management and Budget (OMB) approval for data collection activities to support the evaluation of the Substance Abuse and Mental Health Services Administration's (SAMHSA's) Assisted Outpatient Treatment (AOT) Grant Program for Individuals with Serious Mental Illness (SM-16-011). Enacted into law on April 1, 2014, Section 224 of the Protecting Access to Medicare Act (PAMA) (Pub. L. 113-93) mandated a 4-year pilot program of grants to implement AOT programs nationwide. Section 224(e) required a program evaluation to examine the impact of AOT on cost savings and public health outcomes, incarceration, homelessness, and patient and family satisfaction with program participation.

Focusing specifically on six of the 17 sites, the in-depth implementation and outcome evaluation of the SAMHSA AOT Grant Program for Individuals with Serious Mental Illness is being carried out by RTI International, in partnership with Duke University and Policy Research Associates (PRA). The completed implementation evaluation, conducted from November 2016 to August 2017, gathered information related to the processes and practices of AOT across the six in-depth sites. The information to be collected for the outcome evaluation will allow ASPE and partners SAMHSA and NIMH to assess which elements of AOT programs influence health and social outcomes for people under AOT orders, as well as the use of services, associated costs, and patient and family satisfaction with the AOT process.

Need and Proposed Use of the Information: Section 224(e) of PAMA requires annual reports to Congress that include evaluation of: Cost savings and public health outcomes such as mortality, suicide, substance abuse, hospitalization, and use of services; rates of incarceration by patients; rates of homelessness among patients; and patient and family satisfaction with program participation. The data collected under this submission will help ASPE address the evaluation questions listed above and inform the required reports to Congress.

The total annual burden hours estimated for this information collection request are summarized in the table below.

Total Estimated Annualized Burden—Hours
Forms | Respondents | Number of respondents | Number of responses per respondent | Average burden per response (hours) | Total annual burden (hours)
Client Interview Instrument | Program Participant | 520 | 3 | 1.00 | 1560.00
| Comparison Subjects | 520 | 3 | 1.00 | 1560.00
Family Satisfaction Survey | Program Participant's Family Member | 173 | 1 | 0.25 | 43.25
Cost Questionnaire | Program Administrator | 6 | 1 | 1.25 | 7.50
| Other Site Representatives | 12 | 1 | 1.25 | 15.00
Total |  | 1231 | 9 | 0.95 | 3185.75

Terry S. Clark,
Office of the Secretary, Asst Paperwork Reduction Act Reports Clearance Officer.

[FR Doc. 2018-01849 Filed 1-30-18; 8:45 am]

BILLING CODE 4150-05-P